DEPARTMENT OF THE INTERIOR

Bureau of Land Management

[LLAZP02000.L51010000.ER0000.LVRWA13A3170; AZA35927]

Notice of Segregation of Public Land for the Proposed Maricopa Solar Park Project, Maricopa County, AZ

AGENCY: Bureau of Land Management, Interior.

ACTION: Notice.

SUMMARY: The Bureau of Land Management (BLM) is segregating public land located in the State of Arizona from appropriation under the public land laws including the mining law, but excluding the mineral leasing or materials acts, for a period of 2 years. This is for the purpose of processing a solar energy right-of-way application. The public land contained in this segregation totals 1,849.92 acres.

DATES: This segregation is effective on February 25, 2014.

FOR FURTHER INFORMATION CONTACT: Eddie Arreola, Supervisory Project Manager; Telephone: 602-417-9505; Address: One North Central Avenue, Suite 800, Phoenix, AZ 85004-4427, or email: earreola@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM is segregating the following described public land located in the State of Arizona, subject to valid existing rights, from appropriation under the public land laws and mining laws, but not the mineral leasing or the materials acts.

Gila and Salt River Meridian, Arizona

T. 4 S., R. 1 E.,

Sec. 34, SW¼SW¼SE¼.

T. 5 S., R. 1 E.,

sec. 2, SW¼NW¼, SW¼, and SW¼SE¼;

sec. 3;

sec. 10;

sec. 11, W½.

The area described contains approximately 1,849.92 acres.

In order to process the right-of-way application filed on the above described land and to maintain the status quo, the BLM is segregating the land under the authority contained in 43 CFR 2091.3-1(e), 43 CFR 2804.25(e), and a Federal Register notice published on April 30, 2013 (78 FR 25204), for a period of 2 years, subject to valid existing rights. This 2-year segregation period will commence on February 25, 2014. The public land involved in this closure will be segregated from appropriation under the public land and mining laws, but not the mineral leasing or material sale laws. It has been determined that this segregation is necessary for the orderly administration of the public land.

The segregation period will terminate and the land will automatically reopen to appropriation under the public land laws, including the mining laws, if one of the following events occurs: (1) Upon the issuance of a decision by the authorized officer granting, granting with modifications, or denying the application for a right-of-way; (2) Upon publication of a Federal Register notice terminating the segregation; or (3) Without further administrative action at the end of the segregation provided for in the Federal Register notice initiating the segregation, whichever occurs first. Any segregation made under this authority would be effective for up to 2 years, and may be extended by the BLM Arizona State Director for an additional 2 years through the issuance of a Federal Register notice explaining the reasons for an extension. The land to be segregated is identified in the legal description provided above.

Authority: 43 CFR 2091.3-1(e), 43 CFR 2804.25(e).

Raymond Suazo,
State Director.

[FR Doc. 2014-04055 Filed 2-24-14; 8:45 am]

BILLING CODE 4310-32-P